SMALL BUSINESS ADMINISTRATION

[License No. 02/72-0625]

Founders Equity SBIC I, L.P.; Notice Seeking Exemption Under Section 312 of the Small Business Investment Act, Conflicts of Interest

Notice is hereby given that Founders Equity SBIC I, L.P., 711 Fifth Avenue, 5th Floor, New York, NY 10022, a Federal Licensee under the Small Business Investment Act of 1958, as amended (“the Act”), in connection with the financing of a small concern, has sought an exemption under Section 312 of the Act and Section 107.730, Financings which Constitute Conflicts of Interest of the Small Business Administration (“SBA”) Rules and Regulations (13 CFR 107.730). Founders Equity SBIC I, L.P. proposes to provide debt security financing to Richardson Foods, Inc., 101 Erie Blvd., Canajoharie, NY 13317. The financing will provide the company with additional capital to meet working capital requirements.

The financing is brought within the purview of § 107.730(a) of the Regulations because two partners of Founders Equity SBIC I, L.P., both of whom are considered Associates of Founders Equity SBIC I, L.P. as defined in § 107.50 of the Regulations, will co-invest in Richardson Foods, Inc. alongside Founders Equity SBIC I, L.P.

Notice is hereby given that any interested person may submit written comments on the transaction to the Associate Administrator for Investment, U.S. Small Business Administration, 409 Third Street, SW., Washington, DC 20416.

Dated: December 5, 2012.
Sean J. Greene,
Associate Administrator for Investment.

[FR Doc. 2012-31325 Filed 12-27-12; 8:45 am]

BILLING CODE 8025-01-P